DEPARTMENT OF ENERGY

Federal Energy Regulatory Commission

[Docket No. RP96-383-053]

Dominion Transmission, Inc.; Notice of Negotiated Rate Filing

November 7, 2003.

Take notice that on October 31, 2003, Dominion Transmission Inc. (DTI) submitted the following revised tariff sheet, for inclusion in its FERC Gas Tariff, Third Revised Volume No. 1, disclosing a recently negotiated rate transaction. DTI requests an effective date of November 1, 2003, for its proposed tariff sheet.

Fourth Revised Sheet No. 1406

DTI states that copies of the filing have been sent to DTI's customers and interested stated commissions. DTI also states that copies of its filing are available for public inspection during regular business hours in a convenient form and place, at DTI's offices at 120 Tredegar St, Richmond, VA 23219.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “eFiling” link.

Magalie R. Salas,
Secretary.

[FR Doc. E3-00320 Filed 11-18-03; 8:45 am]

BILLING CODE 6717-01-P